DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are made available for licensing by the Department of the Navy. U.S. Patent No. 6,397,200: DATA REDUCTION SYSTEM FOR IMPROVING CLASSIFIER PERFORMANCE, issued May 28, 2002.//U.S. Patent No. 6,013,192: SODIUM HYDROXIDE COMPOSITIONS FOR USE IN BATTERY SYSTEMS, issued Jan 11, 2000.//U.S. Patent No. 6,609,428: NONRESONANT TECHNIQUE FOR ESTIMATION OF THE MECHANICAL PROPERTIES OF VISCOELASTIC MATERIALS, issued Aug 26, 2003.//U.S. Patent No. 6,043,921: FADING FREE OPTICAL PHASE RATE RECEIVER, issued Mar 28, 2000.//U.S. Patent No. 5,733,679: IMPROVED METHOD FOR PRODUCING ALKALINE ELECTROLYTES, issued Mar 31, 1998.//U.S. Patent No. 6,697,302: HIGHLY DIRECTIVE UNDERWATER ACOUSTIC RECEIVER, issued Feb 24, 2004.//U.S. Patent No. 6,737,185: SODIUM GALLIUM OXIDE ELECTROLYTE ADDITIVE FOR ALUMINUM ANODE ACTIVATION, issued May 18, 2004.//U.S. Patent No. 6,736,685: STOWABLE INTEGRATED MOTOR PROPULSOR FINS, issued May 18, 2004.//U.S. Patent No. 6,737,185: SODIUM GALLIUM OXIDE ELECTROLYTE ADDITIVE FOR ALUMINUM ANODE ACTIVATION, issued May 18, 2004.//U.S. Patent No. 6,711,096: SHAPED PIEZOELECTRIC COMPOSITE ARRAY, issued Mar 23, 2004.//U.S. Patent No. 6,671,230: PIEZOELECTRIC VOLUMETRIC ARRAY, issued Dec 30, 2003.//U.S. Patent No. 6,661,739: FILIGREE ELECTRODE PATTERN APPARATUS FOR STEERING PARAMETRIC MODE ACOUSTIC BEAMS, issued Dec 9, 2003.//U.S. Patent No. 6,634,071: METHOD OF MAKING SHAPED PIEZOELECTRIC COMPOSITE TRANSDUCER, issued Oct 21, 2003.//U.S. Patent No. 6,561,034: ULTRASONIC SPARSE IMAGING ARRAY, issued May 13, 2003.//U.S. Patent No. 6,511,433: ACTIVE ACOUSTIC ARRAY FOR ULTRASONIC BIOMEDICAL APPLICATIONS, issued Jan 28, 2003.//U.S. Patent No. 6,255,761: SHAPED PIEZOELECTRIC COMPOSITE TRANSDUCER, issued Jul 3, 2001.//Navy Case Number 76472: DIFFERENTIAL HETERODYNE OTR FOR MULTIPLEXED OPTICAL PHASE SIGNALS.//Navy Case Number 76644: IMPROVED METHOD FOR THE HYDRAULIC AND ELECTRICAL CONTROL OF A PILE CONFIGURED BATTERY.//Navy Case Number 76473: HETERODYNE OPTICAL TRANSMITTER/RECEIVER FOR CORRELATION-MULTIPLEXED OPTICAL SIGNALS.//Navy Case Number 79790: SOLID STORAGE AND METHOD OF DISSOLUTION FOR ELECTROLYTE AND CATHOLYTE FOR USE IN A SEMI FUEL CELL POWER SOURCE.//Navy Case Number 76474: HETERODYNE OPTICAL TRANSMITTER/RECEIVER FOR MULTIPLEXED OPTICAL PHASE SIGNALS.//Navy Case Number 96505: PERIMETER SECURITY SENSOR ARRAY.//Navy Case Number 82744: AIR INTERFACE SYSTEM.//Navy Case Number 82831: AIR-INTERFACE SYSTEM FOR CAPTURING ELECTROMAGNETIC RADIATION.//Navy Case Number 75526: POLARIZATION AND PHASE FADING FREE OPTICAL RECEIVER.//U.S. Patent No. 6,706,207: NON-CHROMATE METAL SURFACE ETCHING SOLUTIONS, issued Mar 16, 2004.//U.S. Patent No. 6,638,369: NON CHROMATE CONVERSION COATINGS, issued Oct 28, 2003.//U.S. Patent No. 6,740,220: ELECTROCATALYTIC CATHODE DEVICE OF PALLADIUM AND IRIDIUM ON A HIGH DENSITY OR POROUS CARBON SUPPORT AND A METHOD FOR MAKING SUCH A CATHODE, issued May 25, 2004.//Navy Case Number 84567: NONPARAMETRIC METHOD FOR DETECTION AND IDENTIFICATION OF REGIONS OF CONCERN IN MULTIDIMENSIONAL INTENSITY IMAGES.

ADDRESSES: Copies of patents cited are available from the U.S. Patent and Trademark Office, USPTO Contact Center (UCC), Crystal Plaza 3, Room 2C02, P.O. Box 1450, Alexandria, VA 22313-1450. Requests for copies of patents must include the patent number.

FOR FURTHER INFORMATION CONTACT: Dr. Theresa A. Baus, Technology Transfer Manager, Naval Undersea Warfare Center Division, Newport, 1176 Howell St., Newport, RI 02841-1703, telephone (401) 832-8728.

(Authority: 35 U.S.C. 207, 37 CFR Part 404)
Dated: August 4, 2004.
S.K. Melancon,
Paralegal Specialist, Office of the Judge Advocate General, Alternate Federal Register Liaison Officer.

[FR Doc. 04-18330 Filed 8-10-04; 8:45 am]

BILLING CODE 3810-FF-P